DEPARTMENT OF LABOR

Employment and Training Administration

Science, Technology, Engineering, and Mathematics (STEM) Opportunities in the Workforce System Initiative; Solicitation for Grant Applications (SGA) SGA/DFA PY 07-03, Amendment Number 1

AGENCY: Employment and Training Administration (ETA), Labor.

ACTION: Amendment.

SUMMARY: The Employment and Training Administration published a document in the Federal Register of January 15, 2008, announcing the availability of funds and solicitation for grant applications for the Science, Technology, Engineering, and Mathematics (STEM) Opportunities in the Workforce System Initiative. This amendment will make changes to the January 15 document by clarifying and correcting this Solicitation.

FOR FURTHER INFORMATION CONTACT: Marsha Daniels, Grants Management Specialist, Telephone (202) 693-3504.

Amendment

In the Federal Register of January 15, 2008, in FR Volume 73, Number 10, the solicitation is hereby amended with the following:

1. This amendment is to clarify the type of Workforce Investment Board that is an Eligible Applicant for this Solicitation. Where an individual Workforce Investment Board is cited in the Solicitation it will be defined as a State or Local Workforce Investment Board.

2. On page 2533, Part I.C. Use of Funds/Allowable Activities, remove the following text: Activities funded under this Solicitation must be focused on developing skills and competencies related to fields identified in the Attachment.

Replace with the following text: Activities funded under this Solicitation must be focused on developing skills and competencies related to the H-1B industries and occupations identified in the Attachment and further limited by the list of NSF-defined STEM fields on page 2531, center column.

3. On page 2542, the Attachment: H-1B Industry Sectors and Occupations, add the following text under the header: For the purposes of this Solicitation, this list is further limited by the NSF-defined STEM fields on page 2531.

4. A virtual Prospective Applicant Conference was held via webinar for this grant competition on January 25, 2008. A recorded version can be viewed at: http://www.workforce3one.org/view.cfm?id=4776&info=1

Signed at Washington, DC, this 4th day of February 2008.
Eric Luetkenhaus,
Grant Officer, Employment & Training Administration.

[FR Doc. E8-2336 Filed 2-7-08; 8:45 am]

BILLING CODE 4510-FN-P